DEPARTMENT OF HEALTH AND HUMAN SERVICES

Food and Drug Administration

[Docket No. FDA-2010-D-0146]

Guidance for Industry on Irritable Bowel Syndrome—Clinical Evaluation of Drugs for Treatment; Availability; Correction

AGENCY: Food and Drug Administration, HHS.

ACTION: Notice; correction.

SUMMARY: The Food and Drug Administration (FDA) is correcting a notice that appeared in the Federal Register of May 31, 2012 (77 FR 32124). The document announced the availability of a guidance for industry entitled “Irritable Bowel Syndrome—Clinical Evaluation of Drugs for Treatment.” The document was published with an incorrect docket number. This document corrects that error.

FOR FURTHER INFORMATION CONTACT: Joyce Strong, Office of Policy and Planning, Food and Drug Administration, 10903 New Hampshire Ave., Bldg. 32, Rm. 3208, Silver Spring, MD 20993-0002, 301-796-9148.

SUPPLEMENTARY INFORMATION: In FR Doc. 2012-13143, appearing on page 32124 in the Federal Register of Thursday, May 31, 2012, the following correction is made:

1. On page 32124, in the first column, in the headings section of the document, “[Docket No. FDA-2012-D-0146]” is corrected to read “[Docket No. FDA-2010-D-0146]”.

Dated: June 8, 2012.
Leslie Kux,
Assistant Commissioner for Policy.

[FR Doc. 2012-14485 Filed 6-13-12; 8:45 am]

BILLING CODE 4160-01-P